OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: C. Penn, Executive Resources Services Group, Center for Human Resources, Division for Human Capital Leadership and Merit System Accountability, 202-606-2246.

SUPPLEMENTARY INFORMATION: Appearing in the listing below are the individual authorities established under Schedules A, B, and C between May 1, 2007, and May 31, 2007. Future notices will be published on the fourth Tuesday of each month, or as soon as possible thereafter. A consolidated listing of all authorities as of June 30 is published each year.

Schedule A

No Schedule A appointments were approved for May 2007.

Schedule B

No Schedule B appointments were approved for May 2007.

Schedule C

The following Schedule C appointments were approved during May 2007.

Section 213.3303 Executive Office of the President

Office of Management and Budget

BOGS70009 Confidential Assistant to the Deputy Director for Management. Effective May 04, 2007.

Office of National Drug Control Policy

QQGS70009 Special Assistant to the Director to the Chief of Staff. Effective May 24, 2007.

Section 213.3304 Department of State

DSGS61228 Special Assistant to the Assistant Secretary, Bureau of Educational and Cultural Affairs. Effective May 11, 2007.

DSGS61226 Staff Assistant to the Assistant Secretary for Public Affairs. Effective May 14, 2007.

DSGS61231 Special Assistant to the Assistant Secretary for Near Eastern and South Asian Affairs. Effective May 23, 2007.

Section 213.3305 Department of the Treasury

DYGS00492 Special Advisor (Legislative Affairs) to the Assistant Secretary (Deputy Under Secretary) for Legislative Affairs. Effective May 11, 2007.

DYGS00493 Executive Secretary Officer to the Executive Secretary. Effective May 11, 2007.

DYGS00494 Special Assistant to the Director of the Mint. Effective May 16, 2007.

DYGS00495 Associate Director of Operations for Advance to the Director of Operations. Effective May 23, 2007.

DYGS00496 Special Advisor for Business Affairs and Public Liaison to the Deputy Assistant Secretary for Business Affairs and Public Liaison. Effective May 23, 2007.

DYGS00497 Senior Advisor to the Assistant Secretary (Financial Institutions). Effective May 24, 2007.

Section 213.3306 Department of Defense

DDGS17026 Special Assistant to the Assistant Secretary of Defense (Legislative Affairs). Effective May 01, 2007.

DDGS17032 Special Assistant to the Assistant Secretary of Defense (Legislative Affairs). Effective May 02, 2007.

DDGS17038 Special Assistant to the Assistant Secretary of Defense (Legislative Affairs). Effective May 02, 2007.

DDGS17042 Defense Fellow to the Special Assistant to the Secretary of Defense for White House Liaison. Effective May 04, 2007.

DDGS17039 Confidential Assistant to the Secretary of Defense. Effective May 09, 2007.

DDGS17040 Defense Fellow to the Special Assistant to the Secretary of Defense for White House Liaison. Effective May 18, 2007.

DDGS17041 Special Assistant to the Assistant Secretary of Defense (Legislative Affairs). Effective May 21, 2007.

DDGS17043 Special Assistant to the Under Secretary of Defense (Comptroller). Effective May 24, 2007.

Section 213.3307 Department of the Army

DWGS60033 Special Assistant to the General Counsel. Effective May 18, 2007.

DWGS60034 Confidential Assistant to the Assistant Secretary of the Army (Civil Works). Effective May 21, 2007.

Section 213.3308 Department of the Navy

DNGS07166 Residence Manager and Social Secretary to the Vice President to the Secretary of the Navy. Effective May 01, 2007.

DNGS07259 Special Assistant to the Secretary of the Navy. Effective May 14, 2007.

Section 213.3310 Department of Justice

DJGS00292 Deputy Privacy and Civil Liberties Officer to the Counselor and Chief of Staff. Effective May 03, 2007.

DJGS00336 Special Assistant to the Assistant Attorney General to the Chief of Staff. Effective May 16, 2007.

DJGS00284 Research Assistant to the Deputy Director. Effective May 23, 2007.

DJGS00295 Special Assistant to the United States Attorney, Massachusetts. Effective May 23, 2007.

Section 213.3311 Department of Homeland Security

DMGS00661 Advisor to the Chief of Staff. Effective May 03, 2007.

DMGS00664 Advance Representative to the Director of Scheduling and Advance. Effective May 03, 2007.

DMGS00663 Director, Transition and Transformation to the Director of Policy and Program Analysis. Effective May 09, 2007.

DMGS00667 Confidential Assistant to the Assistant Secretary for Intergovernmental Programs. Effective May 10, 2007.

DMGS00668 Program Director to the Assistant Secretary for Intergovernmental Programs. Effective May 16, 2007.

DMGS00660 Director of Communications, Immigration and Customs Enforcement to the Assistant Secretary, Immigration and Customs Enforcement. Effective May 24, 2007.

DMGS00670 Advisor to the Deputy Administrator, Federal Emergency Management Agency. Effective May 24, 2007.

Section 213.3312 Department of the Interior

DIGS05003 Special Assistant to the Deputy Director. Effective May 16, 2007.

Section 213.3314 Department of Commerce

DCGS00447 Confidential Assistant to the Director of Scheduling. Effective May 09, 2007.

DCGS00587 Confidential Assistant to the Assistant Secretary for Legislative and Intergovernmental Affairs. Effective May 09, 2007.

DCGS60573 Special Assistant to the Assistant Secretary and Director General of United States/For Commercial Services. Effective May 09, 2007.

DCGS00202 Legislative Affairs Specialist to the Assistant Secretary for Legislative and Intergovernmental Affairs. Effective May 10, 2007.

DCGS60574 Confidential Assistant to the Director, Office of Business Liaison. Effective May 24, 2007.

Section 213.3315 Department of Labor

DLGS60245 Staff Assistant to the Executive Assistant to the Secretary. Effective May 03, 2007.

DLGS60253 Special Assistant to the Deputy Secretary of Labor. Effective May 07, 2007.

DLGS60195 Special Assistant to the Assistant Secretary for Employment Standards. Effective May 10, 2007.

DLGS60257 Intergovernmental Assistant to the Assistant Secretary for Congressional and Intergovernmental Affairs. Effective May 11, 2007.

DLGS60260 Staff Assistant to the Deputy Chief of Staff. Effective May 11, 2007.

DLGS60017 Senior Legislative Officer to the Assistant Secretary for Congressional and Intergovernmental Affairs. Effective May 14, 2007.

DLGS60003 Staff Assistant to the Director, 21st Century Office and Deputy Assistant Secretary for Intergovernmental Affairs. Effective May 24, 2007.

DLGS60261 Special Assistant to the Deputy Assistant Secretary for Mine Safety and Health. Effective May 24, 2007.

Section 213.3316 Department of Health and Human Services

DHGS60016 Confidential Assistant to the Director, Center for Faith Based and Community Initiatives. Effective May 25, 2007.

DHGS60546 Special Assistant to the Executive Secretary to the Department. Effective May 25, 2007.

Section 213.3317 Department of Education

DBGS00619 Confidential Assistant to the Deputy Assistant Secretary. Effective May 15, 2007.

DBGS00514 Special Assistant to the Director, Faith-Based and Community Initiatives Center. Effective May 24, 2007.

DBGS00617 Confidential Assistant to the Chief of Staff. Effective May 24, 2007.

DBGS00621 Confidential Assistant to the Senior Advisor to the Under Secretary. Effective May 31, 2007.

Section 213.3318 Environmental Protection Agency

EPGS07009 Special Assistant to the Regional Administrator. Effective May 23, 2007.

Section 213.3325 United States Tax Court

JCGS60049 Secretary (Confidential Assistant) to the Chief Judge. Effective May 02, 2007.

Section 213.3327 Department of Veterans Affairs

DVGS00082 Special Assistant to the Assistant Secretary for Public and Intergovernmental Affairs. Effective May 08, 2007.

Section 213.3331 Department of Energy

DEGS00585 Special Assistant to the Associate Director. Effective May 09, 2007.

DEGS00592 Small Business Specialist to the Associate Director. Effective May 22, 2007.

DEGS00593 Congressional Affairs Specialist to the Director, Congressional Affairs. Effective May 31, 2007.

Section 213.3337 General Services Administration

GSGS00087 Senior Advisor to the Regional Administrator, (Region IX-San Francisco). Effective May 15, 2007.

Section 213.3339 United States International Trade Commission

TCGS00012 Staff Assistant (Legal) to a Commissioner. Effective May 14, 2007.

TCGS60007 Staff Assistant (Economics) to a Commissioner. Effective May 14, 2007.

Section 213.3384 Department of Housing and Urban Development

DUGS60588 Staff Assistant to the Assistant Secretary for Administration/Chief Human Capital Officer. Effective May 09, 2007.

DUGS60468 Staff Assistant to the Assistant Secretary for Community Planning and Development. Effective May 24, 2007.

Section 213.3389 National Mediation Board

NMGS60056 Confidential Assistant to a Board Member. Effective May 18, 2007.

Section 213.3391 Office of Personnel Management

PMGS60009 Special Assistant to the Director, Office of Communications and Public Liaison. Effective May 03, 2007.

Section 213.3394 Department of Transportation

DTGS60357 Special Assistant to the White House Liaison and Scheduling and Advance to the Director for Scheduling and Advance. Effective May 11, 2007.

DTGS60292 Associate Director for Governmental Affairs to the Assistant Secretary for Governmental Affairs. Effective May 23, 2007.

DTGS60364 Special Assistant to the Assistant Secretary for Transportation Policy. Effective May 23, 2007.

Authority: 5 U.S.C. 3301 and 3302; E.O. 10577, 3 CFR 1954-1958 Comp., p. 218.

Office of Personnel Management.
Tricia Hollis,
Chief of Staff/Director of External Affairs.

[FR Doc. E7-11823 Filed 6-18-07; 8:45 am]

BILLING CODE 6325-39-P